DEPARTMENT OF THE INTERIOR

Bureau of Land Management

[NV-050-02-5101-ER-F323; NVN66472, NVN73726, N-66150, N-61191]

Notice of Availability of the Final Environmental Impact Statement for the Table Mountain Wind Generating Facility

AGENCY: Bureau of Land Management, Interior.

ACTION: Notice of Availability (NOA) to (1) announce the 30-day waiting period per 40 CFR 1506.10 after publication of this Final Environmental Impact Statement (FEIS) for the Table Mountain Wind Generating Facility (WGF); and (2) announce locations where copies of the FEIS can be obtained for reading.

SUMMARY: Pursuant to section 102 (2)(C) of the National Environmental Policy Act (NEPA) of 1969, a FEIS has been prepared by the Bureau of Land Management (BLM), Las Vegas Field Office for the Table Mountain WGF. The FEIS was prepared to analyze the impacts of issuing rights-of-way for arrays of wind turbines and ancillary facilities located on 300 acres of public land within the Table Mountain WGF study area administered by the BLM.

DATES: The FEIS 30-day waiting period will start with the Environmental Protection Agency (EPA) publication in the Federal Register of the Notice of Availability for the FEIS on July 26, 2002. Copies of the FEIS will be mailed to individuals, agencies, or companies who previously requested copies.

ADDRESSES: Public reading copies of the FEIS will be available for reading at public libraries located at the following addresses:

• 650 West Quartz Avenue, Sandy Valley, NV

• 365 West San Pedro, Goodsprings, NV

• 4280 South Jones Blvd., Las Vegas, NV

A limited number of copies of the document will be available at the following BLM offices:

• Bureau of Land Management, Nevada State Office, 1340 Financial Blvd., Reno, NV

• Bureau of Land Management, Las Vegas Field Office, 4701 Torrey Pines Drive, Las Vegas, NV

FOR FURTHER INFORMATION CONTACT: Jerry Crockford, Project Manager, Bureau of Land Management, Las Vegas Field Office, 4701 Torrey Pines Drive, Las Vegas, NV 89130-2301. Bureau of Land Management, Farmington Field Office, 1235 La Plata Highway, Suite A, Farmington, NM 87401; telephone (505) 599-6333, cellular telephone (505) 486-4299, or electronic mail jcrockfo@nm.blm.gov.

SUPPLEMENTARY INFORMATION: The FEIS addresses alternatives to resolve the following major issues: air quality, increased recreation, mining claims, birds and bats, big horn sheep, threatened or endangered species, cultural resources and traditional cultural properties, transportation, visual resources, noise, and socioeconomics. The proposed action and alternatives can be summarized as: Proposed Action—Construct arrays containing a total of 153 wind turbine generators (WTGs) consisting of a combination of the two sizes of turbines identified in Alternatives A and B, and ancillary facilities; Alternative A—Construct arrays containing a total of 187 NEG Micon Model 900/52 WTGs and ancillary facilities; Alternative B—Construct arrays containing a total of 135 NEG Micon Model 1500 C WTGs and ancillary facilities; and Alternative C—No Action.

The proposed action is the Agency Preferred Alternative. It is to construct, operate, and maintain a WGF producing 205-megawatts (MWs) and ancillary facilities on approximately 300 acres of public land within the Table Mountain WGF study area. The fully constructed WGF would consist of arrays containing a total of 153 WTGs. The WTGs installed would be a combination of the NEG Micon Model 900/52 (each producing 800 kilowatts) and NEG Micon 1500 C (each producing 1.5 MWs) turbines. Ancillary facilities consist of access roads, underground and overhead 34.5 kilovolt (kV) distribution lines, 230 kV electric transmission lines, an electric sub-station, a control building, and various temporary use areas. The WGF would operate 24 hours per day, 365 days a year, and produce in excess of 460 million kilowatt-hours annually. The anticipated life of the facility would be longer than 20 years. The rights-of way would be granted for 20 years with the right to renew.

Alternative A would essentially be the same as the Proposed Action but would consist of arrays containing a total of 187 NEG Micon Model 900/52 WTGs and ancillary facilities. Under Alternative A, there would be 22 percent more towers, turbines, and transformers. This would cause an increase in total of land disturbance as compared to the Proposed Action.

Alternative B would essentially be the same as the Proposed Action but would consist of arrays containing a total of 135 NEG Micon Model 1500 C WTGs and ancillary facilities. Under Alternative B, there would be 12 percent fewer towers, turbines, and transformers. This would cause a reduction in total acres of land disturbance as compared to the Proposed Action.

Under the No Action Alternative, BLM would not issue right-of-way grants for the WGF and ancillary facilities. The WTGs, access roads, underground and overhead 34.5 kV distribution lines, 230 kV electric transmission lines, electric sub-station, control building, and various temporary use areas would not be constructed/utilized. Wind resources at Table Mountain would remain undeveloped.

Public participation is occurring throughout the processing of this project. A Notice of Intent was filed in the Federal Register on December 29, 2000. Two rounds of public meetings consisting of three meetings each were held. Comments presented throughout the process have been considered.

Dated: May 31, 2002.
Angie C. Lara,
Acting Field Manager.

[FR Doc. 02-18401 Filed 7-25-02; 8:45 am]

BILLING CODE 4310-HC-P